DEPARTMENT OF COMMERCE

International Trade Administration

[A-469-814]

Chlorinated Isocyanurates from Spain: Notice of Rescission of Antidumping Duty New Shipper Review

AGENCY: Import Administration, International Trade Administration, Department of Commerce.

SUMMARY: In response to a request from Inquide Flix S.A. (Inquide), on February 13, 2008, the Department of Commerce (the Department) published in the Federal Register a notice announcing the initiation of a new shipper review of the antidumping duty order on chlorinated isocyanurates from Spain, covering the period June 1, 2007, through November 30, 2007. On July 22, 2008, Inquide withdrew its request for a new shipper review and, therefore, we are rescinding this review.

EFFECTIVE DATE: August 4, 2008.

FOR FURTHER INFORMATION CONTACT: Scott Lindsay, AD/CVD Operations, Office 6, Import Administration, International Trade Administration, U.S. Department of Commerce, 14th Street and Constitution Avenue, NW, Washington, DC 20230; telephone: (202) 482-0780.

Background

The Department received a timely request from Inquide, in accordance with section 751(a)(2)(B)(i) of the Tariff Act of 1930, as amended (the Act), and 19 CFR 351.214(c), for a new shipper review of the antidumping duty order on chlorinated isocyanurates from Spain. On February 13, 2008, the Department found that the request for review with respect to Inquide met all of the regulatory requirements set forth in 19 CFR 351.214(b) and initiated an antidumping duty new shipper review. See Chlorinated Isocyanurates from Spain: Initiation of Antidumping Duty New Shipper Review, 73 FR 8290 (February 13, 2008) (Initiation Notice). However, the Department noted in the initiation notice that it had concerns with Inquide's eligibility for a new shipper review, specifically regarding Inquide's certification that it had never been affiliated with any producers or exporters of subject merchandise. See Initiation Notice.

On February 14, 2008, the Department issued a questionnaire requesting that Inquide clarify whether it has ever been affiliated with any exporter or producer who exported subject merchandise to the United States during the original period of investigation. Included in this questionnaire was documentation from the first administrative review of chlorinated isocyanurates from Spain, which called into question Inquide's certification regarding its affiliations. See the Department's February 14, 2008 questionnaire. Inquide responded to our questionnaire on February 26, 2008.

On July 22, 2008, Inquide withdrew its request for a new shipper review.

Rescission of New Shipper Review

Section 351.214(f)(1) of the Department's regulations provides that the Department may rescind a new shipper review if the party that requested the review withdraws its request for review within 60 days of the date of publication of the notice of initiation of the requested review. Although Inquide withdrew its request after the 60-day deadline, we find it reasonable to extend the deadline because we have not yet committed significant resources to the Inquide new shipper review. Specifically, we have not issued the initial questionnaire. Further, Inquide was the only party to request this review. Finally, we have not received any submissions opposing the withdrawal of the request for the review. For these reasons, we are rescinding the new shipper review of the antidumping duty order on chlorinated isocyanurates from Spain with respect to Inquide in accordance with 19 CFR 351.214(f)(1).

Notification

As the Department is rescinding this antidumping duty new shipper review, normally, the all-others rate in effect at the time of entry, 24.83 percent ad valorem, would apply to all exports of chlorinated isocyanurates from Spain by Inquide entered, or withdrawn, from warehouse for consumption during the period of review (June 1, 2007, through November 30, 2007). However, a request for a review of Inquide's shipments has also been made for the administrative review of chlorinated isocyanurates from Spain, covering the period June 1, 2007 through May 31, 2008. Because the sale(s) from this new shipper review also fall within the period of review of the administrative review, the Department will not issue assessment instructions to U.S. Customs and Border Protection (CBP) at this time. Upon the completion of the June 1, 2007 through May 31, 2008 administrative review, the Department will issue assessment instructions to CBP as appropriate.

This notice also serves as the only reminder to parties subject to administrative protective orders (“APO”) of their responsibility concerning the disposition of proprietary information disclosed under APO in accordance with 19 CFR 351.305(a)(3). Timely written notification of the return/destruction of APO material or conversion to judicial protective order is hereby requested. Failure to comply with the regulations and terms of an APO is a violation which is subject to sanctions.

This new shipper rescission and notice are published in accordance with sections 751(a)(2)(B) and 777(i)(1) of the Act.

Dated: July 25, 2008.
Stephen J. Claeys,
Deputy Assistant Secretary for Import Administration.

[FR Doc. E8-17816 Filed 8-1-08; 8:45 am]

BILLING CODE 3510-DS-S